DEPARTMENT OF ENERGY

Federal Energy Regulatory Commission

[Docket No. RP01-395-001]

Northern Natural Gas Company; Notice of Proposed Changes in FERC Gas Tariff

May 24, 2001.

Take notice that on May 21, 2001, Northern Natural Gas Company (Northern), tendered for filing in its FERC Gas Tariff, Fifth Revised Volume No. 1, the following tariff sheets proposed to be effective June 1, 2001:

Fifth Revised Volume No. 1

Substitute First Revised Sheet No. 54A

Substitute Twelfth Revised Sheet No. 62

Northern also submitted for filing as part of Northern's Tariff the following Pro Forma tariff sheets to be effective prospectively:

Fifth Revised Volume No. 1

Pro Forma Sheet No. 54A

Pro Forma Sheet No. 62

Pro Forma Sheet No. 300A

Pro Forma Sheet No. 301

Pro Forma Sheet No. 301A

Northern states that it is herein amending its May 1, 2001 filing in the above-referenced proceeding by submitting Substitute First Revised Sheet No. 54A and Substitute Twelfth Revised Sheet No. 62 to be effective June 1, 2001, reflecting the PRA fuel and UAF rate adjustments without the proposed modifications described in its May 21, 2001 filing. With respect to the proposed modifications, Northern is refiling the previously filed Sheet Nos. 54A, 62, 300A, 301, and 301A as Pro Forma tariff sheets to be effective prospectively.

Northern further states that copies of the filing have been mailed to each of its customers and interested State Commissions.

Any persons desiring to be heard or to protest said filing should file a motion to intervene or a protest with the Federal Energy Regulatory Commission, 888 First Street, NE., Washington, DC 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance). Comments, protests, and interventions may be filed electronically via the internet in lieu of paper. See, 18 CFR 385.2001(a)(1)(iii) and the instructions on the Commission's web site at http://www.ferc.fed.us/efi/doorbell.htm.

David P. Boergers,
Secretary.

[FR Doc. 01-13597 Filed 5-30-01; 8:45 am]

BILLING CODE 6717-01-M